DEPARTMENT OF JUSTICE

Notice of Lodging of Consent Decree Under the Clean Air Act

On February 25, 2013, the Department of Justice lodged a proposed Consent Decree (“CD”) with the United States District Court for the Northern District of Illinois, Eastern Division, in the lawsuit entitled United States v. Geneva Energy, LLC, Civil Action No. 13-cv-1448.

In this action, the United States, on behalf of the United States Environmental Protection Agency (“EPA”), sought civil penalties and injunctive relief, pursuant to Section 113(b) of the Clean Air Act (the “CAA” or “Act”), 42 U.S.C. 7413(b), for violations related to a tire-burning electric generating plant in Ford Heights, Illinois (the “Facility”). The CD resolves claims against Geneva Energy, LLC, (“Geneva Energy”) as former owner and operator of the Facility, and NAES, Inc., (“NAES”) a contract operator at the Facility for 14 months in 2008-2009. The claims are identified in the Complaint, which was also filed with the district court on February 25, 2013, and in EPA's Notice and Finding of Violation issued to Geneva Energy and NAES in 2010. The claims include allegations that Geneva Energy and NAES violated provisions of the Clean Air Act, including: (1) The New Source Performance Standards for Industrial Steam Generating Units; (2) the Illinois State Implementation Plan; and (3) numerous emissions limitations and operating requirements governed by the Facility's construction permit.

The CD requires Geneva Energy to: (1) Permanently shut down the Facility; (2) request that Illinois EPA withdraw all air and water permits and pending permit applications related to the Facility; and (3) surrender its sulfur dioxide emissions allowances. The CD does not require Geneva Energy to pay a civil penalty due to its inability to pay, as determined through a financial analysis. NAES will pay a civil penalty of $185,000.

The publication of this notice opens a period for public comment on the Consent Decree. Comments should be addressed to the Assistant Attorney General, Environment and Natural Resources Division, Environmental Enforcement Section and should refer to United States v. Geneva Energy, LLC, D.J. Ref. No. 90-5-2-1-10155. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $8.00 (25 cents per page reproduction cost) payable to the United States Treasury.

Maureen Katz,
Assistant Section Chief, Environmental Enforcement Section, Environment and Natural Resources Division.

[FR Doc. 2013-05017 Filed 3-4-13; 8:45 am]

BILLING CODE 4410-15-P